DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the contact officer indicated for each individual mission below.

Information and Communication Technology Trade Mission

Toronto, Canada, April 21-22, 2004. Recruitment closes March 8, 2004. FOR FURTHER INFORMATION CONTACT:

Viktoria Palfi, U.S. Commercial Service, Toronto, Tel: (416) 595-5412, ext. 229, E-mail: viktoria.palfi@mail.doc.gov.

Natural Health Products Trade Mission

Montreal, Canada, March 29-30, 2004. Recruitment closes March 8, 2004. FOR FURTHER INFORMATION CONTACT: Pierre Richer, U.S. Commercial Service, Montreal, Tel: (514) 398-9695, ext. 6-2261, E-mail: pierre.richer@mail.doc.gov.

Plastics Trade Mission to Canada

Toronto, Canada, May 3-4, 2004, Recruitment closes March 19, 2004, FOR FURTHER INFORMATION CONTACT: Madellon C. Lopes, U.S. Commercial Service, Toronto, Tel: (416) 595-5412, Ext. 227, E-mail: madellon.lopes@mail.doc.gov.

REPCAN 2004

Toronto, Canada, June 16-17, 2004. Recruitment closes April 23, 2004. FOR FURTHER INFORMATION CONTACT:

Rita Patlan, U.S. Commercial Service, Toronto, Tel: (416) 595-5412, Ext. 223, E-mail: rita.patlan@mail.doc.gov.

Explore BC

Vancouver, Canada, June 22-23, 2004. Recruitment closes May 21, 2004. FOR FURTHER INFORMATION CONTACT:

Cheryl Schell U.S. Commercial Service, Vancouver, BC, Tel: 604-642-6679, E-mail: cheryl.schell@mail.doc.gov.

Women's Apparel Trade Mission to Europe

Dusseldorf, Germany, March 15-16,2004, London, England, March 18-19,2004, and Stockholm, Sweden, March 22-23, 2004. Recruitment closes February 4, 2004. FOR FURTHER INFORMATION CONTACT: Rachel Alarid, Trade Development, Washington DC, Tel: (202) 482-5154, E-mail: Rachel_Alarid@ita.doc.gov.

Recruitment and selection of private sector participants for these trade missions will be conducted according to the Statement of Policy Governing Department of Commerce Overseas Trade Missions dated March 3, 1997. FOR FURTHER INFORMATION CONTACT: Mr. John Klingelhut, U.S. Department of Commerce, telephone (202) 482-3304 or e-mail John.Klingelhut@mail.doc.gov.

Dated: January 7, 2004.
Kam Shah,
Office of International Operations.

[FR Doc. 04-1767 Filed 1-27-04; 8:45 am]

BILLING CODE 3510-DR-P